DEPARTMENT OF DEFENSE

Department of the Army

Corps of Engineers; Grant of Partially Exclusive License

AGENCY: U.S. Army Corps of Engineers, DoD.

ACTION: Notice.

SUMMARY: In accordance with 37 CFR 404.7(b)(1)(i), announcement is made of a prospective partially exclusive license of U.S. Patent No. 5,202,034 entitled “Apparatus and Method for Removing Water from Aqueous Sludges,” issued April 13, 1993.

DATES: Written objections must be filed not later than February 5, 2001.

ADDRESSES: United States Army Corps of Engineers Research and Development Center, Cold Regions Research and Engineering Laboratory, ATTN: CEERD-RV-1 (Ms. Sharon Borland), 72 Lyme Road, Hanover, NH 03755-1290.

FOR FURTHER INFORMATION CONTACT: Ms. Sharon Borland, ATTN: CEERD-RV-1; (603) 646-4735, FAX (603) 646-4448; Internet Sharon.L.Borland@erdc.usace.army.mil; U.S. Army Corps of Engineers Research and Development Center, Cold Regions Research and Engineering Laboratory, 72 Lyme Road, Hanover, NH 03755-1290

SUPPLEMENTARY INFORMATION: Patent No. 5,202,034 entitled “Apparatus and Method for Removing Water from Aqueous Sludges,” issued April 13, 1993. The concrete armor unit was invented by Dr. C. James Martel. The United States of America owns the rights to this technology. The United States of America as represented by the Secretary of the Army intends to grant a partially exclusive license for all fields of use, in the manufacture, use, and sale of the patented technology in the territories and possessions of the U.S.A. and Canada, and in the field of use in the pulp and paper industry globally, to 3131807 Canada, Inc., a consortium comprising two companies: Le Groupe STEICA, Inc. of Sherbrooke, Quebec, and BESTH20, Inc. of La Prairie, Quebec, with principal offices at 170, rue des Pivoines, Le Prairie, Quebec, Canada J5R 5J6. Pursuant to 37 CFR 404.7(b)(1)(i), any interested party may file a written objection to this prospective exclusive license agreement.

Richard L. Frenette,
Counsel.

[FR Doc. 00-31184 Filed 12-6-00; 8:45 am]

BILLING CODE 3710-92-M